DEPARTMENT OF TRANSPORTATION

Federal Highway Administration

Environmental Impact Statement: Municipality of Anchorage & Matanuska-Susitna Borough, AK

AGENCY: Federal Highway Administration (FHWA), Alaska Department of Transportation and Public Facilities (ADOT&PF).

ACTION: Notice of intent.

SUMMARY: The FHWA is issuing this notice to advise the public that an environmental impact statement (EIS) will be prepared for a proposed bridge across Knik Arm between the Municipality of Anchorage (MOA) and the Matanuska-Susitna (MatSu) Borough in Alaska. Scoping meetings for the proposed Knik Arm Crossing project will be held in Anchorage and Wasilla, Alaska during the Winter/Spring of 2005.

FOR FURTHER INFORMATION CONTACT: Edrie Vinson, Environmental Project Manager, Federal Highway Administration, P.O. Box 21648, Juneau, Alaska 99802, (907) 586-7464, or Henry Springer, Project Manager, Alaska Department of Transportation and Public Facilities, 550 West Seventh Avenue, Suite 1850, Anchorage, Alaska 99501, (907) 269-6698.

SUPPLEMENTARY INFORMATION: The FHWA, in cooperation with the Alaska Department of Transportation and Public Facilities (ADOT&PF) and the Knik Arm Bridge and Toll Authority (KABATA), will prepare an EIS for a proposed cost affordable, vehicular toll bridge across the Knik Arm between the MOA and Mat-Su connecting the Port of Anchorage area and existing access roads in the MOA with the Port MacKenzie area and existing access road in the Mat-Su. The proposed bridge is considered necessary to improve transportation network connectivity efficiently linking the two ports' operations and infrastructure, support military logistics and deployment, provide an alternate north-south emergency response and disaster evacuation route, establish transportation infrastructure for existing and projected population and economic growth, and to implement the Alaska legislative mandate to construct the Knik Arm bridge.

A reasonable range of alternatives has yet to be developed for the proposed project but will include various crossing types and design variations. All proposed bridge-crossing alternatives will meet the reasonable needs of navigation for Knik Arm. The No-Build alternative will remain a viable alternative throughout the EIS process.

Letters describing the proposed action and soliciting comments will be sent to appropriate Federal, State and local agencies, and to private organizations and citizens who have previously expressed or are known to have interest in the proposal. Formal agency scoping meetings will be held during the Winter/Spring of 2005. A series of additional agency and public meetings will be held in Anchorage and Wasilla, Alaska throughout the EIS study process. In addition, formal public hearings will be held on the Draft Environmental Impact Statement (DEIS). Public notice will be given of the time and place of the meetings and hearings. The new DEIS will be made available for public and agency review and comment prior to the formal public hearings.

To ensure that the full range of issues related to this proposed action are addressed and all significant issues identified, comments, and suggestions are invited from all interested parties. Comments concerning this proposed action and the EIS should be directed to Henry Springer, Alaska Department of Transportation and Public Facilities Project Manager, 550 West Seventh Avenue, Suite 1850, Anchorage, Alaska 99501, (907) 269-6698.

(Catalog of Federal Domestic Assistance Program Number 20.205, Highway Research, Planning and Construction. The regulations implementing Executive Order 12372 regarding intergovernmental consultation on Federal programs and activities to apply to this program)
Issued on December 21, 2004.
David C. Miller,
Division Administrator, Juneau, Alaska.

[FR Doc. 04-28644 Filed 12-30-04; 8:45 am]

BILLING CODE 4910-22-M